DEPARTMENT OF THE INTERIOR

Bureau of Land Management

[AK-930-1310-PG; F-85600]

Designation of Addition to Special Areas in National Petroleum Reserve-Alaska; Alaska

AGENCY: Bureau of Land Management, Interior.

ACTION: Notice.

SUMMARY: This Notice provides official publication of an addition to the designated Special Areas located within the National Petroleum Reserve-Alaska. The designation of the Kasegaluk Lagoon Special Area is pursuant to the Naval Petroleum Reserves Production Act of 1976, and in accordance with the Record of Decision for the Northwest National Petroleum Reserve-Alaska Final Integrated Activity Plan/Environmental Impact Statement (IAP/EIS).

FOR FURTHER INFORMATION CONTACT: Mike Kleven, Bureau of Land Management (BLM), Northern Field Office, 907-474-2302. Mail may be sent to the BLM Alaska State Office (AK930) 222 W. 7th Avenue, No. 13, Anchorage, Alaska 99513-7599.

SUPPLEMENTARY INFORMATION: In 1977 and 1999, to assure protection of significant subsistence, recreational, fish and wildlife, historical and scenic values, the Secretary of the Interior designated several Special Areas located within the National Petroleum Reserve-Alaska. In 2003, the BLM prepared the IAP/EIS for an 8.8 million-acre area within the National Petroleum Reserve-Alaska to determine the appropriate multiple-use management consistent with existing statutory direction which encourages oil and gas leasing while protecting important surface resources and uses. In order to meet these management responsibilities, the BLM recommended, in the Preferred Alternative of the IAP/EIS, the designation of the Kasegaluk Lagoon Special Area. On January 22, 2004, the Secretary of the Interior signed the Record of Decision (ROD) approving the Preferred Alternative, with minor modifications, and designated the following described lands as the Kasegaluk Lagoon Special Area pursuant to Section 104(b) of the Naval Petroleum Reserves Production Act of 1976, 42 U.S.C. 6501 (2000):

Umiat Meridian

The area includes the Kasegaluk Lagoon and extending inland 1 mile which is located within:

T. 12 N., R. 34 W.

Tps. 11 and 12 N., Rs. 35 & 36 W.

Tps. 10 and 11 N., Rs. 37 & 38 W.

Tps. 9, 10, and 11 N., Rs. 39 W.

The boundary of the Kasegaluk Lagoon Special Area is generally depicted on Map 1. Northwest National Petroleum Reserve of the ROD dated January 22, 2004, and identified in detail on the map entitled “Kasegaluk Lagoon Special Area”, dated August 16, 2004. Copies of the maps are filed in BLM case file F-85600 available for public inspection at the Public Information Center, Alaska State Office, 222 W. 7th Avenue, Anchorage, Alaska, 99513, or the Northern Field Office, 1150 University Avenue, Fairbanks, Alaska, 99703.

Dated: September 8, 2004.
Henri Bisson,
State Director.

[FR Doc. 05-3521 Filed 2-23-05; 8:45 am]

BILLING CODE 4310-JA-P